CORPORATION FOR NATIONAL AND COMMUNITY SERVICE

Agency Information Collection Activities; Submission to the Office of Management and Budget for Review and Approval; Comment Request; National Service Trust Americorps Forbearance Request for National Service Form; Proposed Information Collection; Comment Request

AGENCY: Corporation for National and Community Service (CNCS).

ACTION: Notice of Information Collection; request for comment.

SUMMARY: The Corporation for National and Community Service (CNCS) has submitted a public information collection request (ICR) entitled National Service Trust Americorps Forbearance Request for National Service Form for review and approval in accordance with the Paperwork Reduction Act.

DATES: Comments may be submitted, identified by the title of the information collection activity, by October 11, 2019.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Nahid Jarrett, at 202-606-6753 or email to njarrett@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 11, 2019 at Vol. 84, No. 112 FR 27095. This comment period ended August 12, 2019. No public comments were received from this Notice.

Title of Collection: National Service Trust Americorps Forbearance Request for National Service Form.

OMB Control Number: 0345-0030.

Type of Review: Renewal.

Respondents/Affected Public: AmeriCorps members and alumni that wish to request forbearance on qualified student loans and qualified loan servicers.

Total Estimated Number of Annual Responses: 11,000.

Total Estimated Number of Annual Burden Hours: 1,833.

Cost to the Government: 6,500.

Abstract: CNCS Forbearance Request for National Service Form certifies that AmeriCorps members are eligible for forbearance based on their enrollment in a national service position. AmeriCorps members use the form to request forbearance from their loan servicer. CNCS seeks to renew the current information collection. The information collection will otherwise be used in the same manner as the existing application. CNCS also seeks to continue using the current application until the revised application is approved by OMB. The current application expired on August 31, 2019.

Dated: September 3, 2019.
Jerry Prentice,
Director of the National Service Trust.

[FR Doc. 2019-19622 Filed 9-10-19; 8:45 am]

BILLING CODE 6050-28-P